ENVIRONMENTAL PROTECTION AGENCY

[EPA-HQ-OAR-2006-0745; FRL 9535-3]

Information Collection Request Submitted to OMB for Review and Approval; Comment Request; Reformulated Gasoline Commingling Provisions (Renewal)

AGENCY: Environmental Protection Agency (EPA).

ACTION: Notice.

SUMMARY: The Environmental Protection Agency has submitted an information collection request (ICR), Reformulated Gasoline Commingling Provisions (Renewal) (EPA ICR No. 2228.04, OMB Control No. 2060-0587), to the Office of Management and Budget (OMB) for review and approval in accordance with the Paperwork Reduction Act (44 U.S.C. 3501 et seq.). This is a proposed extension of the ICR, which is currently approved through August 31, 2013. Public comments were previously requested via the Federal Register (78 FR 20102) on April 3, 2013 during a 60-day comment period. This notice allows for an additional 30 days for public comments. A fuller description of the ICR is given below, including its estimated burden and cost to the public. An agency may not conduct or sponsor and a person is not required to respond to a collection of information unless it displays a currently valid OMB control number.

DATES: Additional comments may be submitted on or before September 23, 2013.

ADDRESSES: Submit your comments, referencing Docket ID Number EPA-HQ-OAR-2006-0745, to (1) EPA online using www.regulations.gov (our preferred method), by email to a-and-r-Docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Geanetta Heard, Fuel Compliance Center, 6406J, Environmental Protection Agency, 1200 Pennsylvania Ave. NW., Washington, DC 20460; telephone number: 202-343-9017 fax number: 202-566-1744 email address: heard.geanetta@epa.gov.

SUPPLEMENTARY INFORMATION: Supporting documents, which explain in detail the information that the EPA will be collecting, are available in the public docket for this ICR. The docket can be viewed online at www.regulations.gov or in person at the EPA Docket Center, William Jefferson Clinton Federal Building West, Room 3334, 1301 Constitution Ave. NW., Washington, DC. The telephone number for the Docket Center is 202-566-1744. For additional information about EPA's public docket, visit http://www.epa.gov/dockets.

Abstract: EPA would like to continue collecting notifications from gasoline retailers and wholesale purchaser-consumer related to commingling of ethanol blended and non-ethanol blended reformulated gasoline. The test results will allow EPA to monitor compliance with the Reformulated Gasoline Commingling Provisions. We inform respondents that they may assert claims of business confidentiality (CBI) for information they submit in accordance with 40 CFR part 2.203.

Form Numbers: None.

Respondents/affected entities: Gasoline stations, Gasoline stations with convenience stores, Gasoline stations without convenience stores.

Respondent's obligation to respond: Mandatory under the Clean Air Act (CAA), 42 U.S.C. §§ 7414 and 7542.

Estimated number of respondents: 43,050.

Frequency of response: Annually.

Total estimated burden: 21,013 hours (per year). Burden is defined at 5 CFR 1320.03(b).

Total estimated cost: $357,221 (per year), includes $0 annualized capital or operation & maintenance costs.

Changes in Estimates: The change in burden from the prior ICR is due in part to better numbers extracted from business and industry economic statistics that assisted in calculating the numbers of respondents. These better numbers reduced the party size by 13,650 members. The number of responses also declined from 110,700 to 84,050 a difference of 26,650 reports, which reduced the industry burden hours from 27,675 to 21,013. We also found that the original cost per response was overstated by a factor of 2. With the decline of respondents, burden hours and responses, and revision of the cost per response, the cost associated with this ICR is $357,221, a difference of $528,379, calculated from the prior collection approved by OMB.

John Moses,
Director, Collection Strategies Division.

[FR Doc. 2013-20458 Filed 8-21-13; 8:45 am]

BILLING CODE 6560-50-P